DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by April 2, 2003.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

PRT-067368

Applicant: The Dallas World Aquarium, Dallas, TX,

The applicant requests a permit to purchase in interstate commerce one female captive-born jaguar (Panthera onca) from D.C.”s Country Junction Zoo, Lowell, IN, for the purpose of enhancement of the survival of the species through conservation education.

PRT-057924

Applicant: Omaha's Henry Doorly Zoo, Omaha, NE,

The applicant requests a permit to import four male and three female captive-born cheetahs (Acinonyx jubatus) from Hoedspruit Research and Breeding Center, Pretoria, Republic of South Africa, for the purpose of enhancement of the survival of the species through captive propagation and conservation education.

The U.S. Fish and Wildlife Service has information collection approval from OMB through March 31, 2004, OMB Control Number 1018-0093. Federal Agencies may not conduct or sponsor and a person is not required to respond to a collection of information unless it displays a current valid OMB control number.

Dated: February 14, 2003.
Michael S. Moore,
Senior Permit Biologist, Branch of Permits, Division of Management Authority.

[FR Doc. 03-4881 Filed 2-28-03; 8:45 am]

BILLING CODE 4310-55-P